DEPARTMENT OF HOMELAND SECURITY

Transportation Security Administration

49 CFR Part 1503

[Docket No. TSA-2003-14702; Amendment Nos. 1500-1, 1502-1, 1503-1, 1510-3, 1511-2, 1540-5, 1542-1, 1544-4, 1546-1 1548-1, and 1550-1]

RIN 1652-AA20

Transportation Security Administration Transition to Department of Homeland Security; Technical Amendments Reflecting Organizational Changes; Correction

AGENCY: Transportation Security Administation (TSA), DHS.

ACTION: Final rule; correction.

SUMMARY: The document contains a correction to the final rule published in the Federal Register on August 19, 2003. That rule makes technical changes to various provisions of chapter XII, title 49 of the Code of Federal Regulations, mainly in response to enactment of the Homeland Security Act of 2002. In addition, the rule revises any references to our location address or mailing address, as necessary due to TSA's physical move of its headquarters facilities and personnel from Washington, DC, to Arlington, Virginia. TSA inadvertently left out the correct mailing address for the Enforcement Docket in certain sections of part 1503. This document adds the correct mailing address to these sections.

DATES: Effective October 9, 2003.

FOR FURTHER INFORMATION CONTACT: Marisa Mullen, Office of the Chief Counsel, TSA-2, Transportation Security Administration, West Building, Floor 8, 601 South 12th Street, Arlington, VA 22202-4220; telephone (571) 277-2706; e-mail marisa.mullen@dhs.gov.

SUPPLEMENTARY INFORMATION:

Background

On August 19, 2003, TSA published a final rule in the Federal Register (68 FR 49718), making technical changes to various provisions of chapter XII, title 49 (Transportation) of the Code of Federal Regulations (CFR), mainly in response to enactment of the Homeland Security Act of 2002 (HSA). In addition, the rule revises any references to our location address or mailing address, as necessary due to TSA's physical move of its headquarters facilites and personnel from Washington, DC, to Arlington, Virginia. TSA inadvertently left out the correct mailing address for the Enforcement Docket in certain sections of part 1503. This document adds the correct mailing address to these sections, changing the address from 400 Seventh Street, SW., Washington, DC 20590 to 601 South 12th Street, Arlington, VA 22202-4220.

Correction

In rule FR Doc. 03-20927, published on August 19, 2003 (68 FR 49718), make the following correction:

On page 49720, in the second column, add to the end of amendatory instruction 9. for §§ 1503.5(b)(2), 1503.16(f), 1503.209(b), 1503.210(a), and 1503-233(a) the following instructions: “and remove the words ‘400 Seventh Street, SW., Washington, DC 20590’ and add in their place, the words ‘601 South 12th Street, Arlington, VA 22202-4220’.”

Issued in Arlington, Virginia, on October 3, 2003.
Mardi Ruth Thompson,
Deputy Chief Counsel for Regulations.

[FR Doc. 03-25574 Filed 10-8-03; 8:45 am]

BILLING CODE 4910-62-M